DEPARTMENT OF HOMELAND SECURITY

Federal Emergency Management Agency

[Docket ID: FEMA-2017-0021; OMB No. 1660-0105]

Agency Information Collection Activities: Submission for OMB Review; Comment Request; Community Preparedness and Participation Survey

AGENCY: Federal Emergency Management Agency, DHS.

ACTION: Notice and request for comments.

SUMMARY: The Federal Emergency Management Agency (FEMA) will submit the information collection abstracted below to the Office of Management and Budget for review and clearance in accordance with the requirements of the Paperwork Reduction Act of 1995. The submission will describe the nature of the information collection, the categories of respondents, the estimated burden (i.e., the time, effort and resources used by respondents to respond) and cost, and the actual data collection instruments FEMA will use.

DATES: Comments must be submitted on or before August 24, 2017.

ADDRESSES: Submit written comments on the proposed information collection to the Office of Information and Regulatory Affairs, Office of Management and Budget. Comments should be addressed to the Desk Officer for the Department of Homeland Security, Federal Emergency Management Agency, and sent via electronic mail to oira.submission@omb.eop.gov.

FOR FURTHER INFORMATION CONTACT: Requests for additional information or copies of the information collection should be made to Director, Records Management Division, 500 C Street SW., Washington, DC 20472-3100, or email address FEMA-Information-Collections-Management@fema.dhs.gov. Or, Jacqueline Snelling, Senior Advisor, FEMA, National Preparedness Directorate, at (202) 786-9577.

SUPPLEMENTARY INFORMATION: This proposed information collection previously published in the Federal Register on May 19, 2017 at 82 FR 23023 with a 60 day public comment period. No comments were received. The purpose of this notice is to notify the public that FEMA will submit the information collection abstracted below to the Office of Management and Budget for review and clearance.

Collection of Information

Title: Community Preparedness and Participation Survey.

Type of Information Collection: Revision of a currently approved information collection.

OMB Number: 1660-0105.

Form Titles and Numbers: FEMA Form 008-0-15, Community Preparedness and Participation Survey.

Abstract: The Individual and Community Preparedness Division uses this information to more effectively improve the state of preparedness and participation from the general public by customizing preparedness education and training programs, messaging and public information efforts, and strategic planning initiatives.

Affected Public: Individuals or households.

Estimated Number of Respondents: 5,040.

Estimated Number of Responses: 5,040.

Estimated Total Annual Burden Hours: 1,260 hours.

Estimated Total Annual Respondent Cost: $32,760.

Estimated Respondents' Operation and Maintenance Costs: None.

Estimated Respondents' Capital and Start-Up Costs: None.

Estimated Total Annual Cost to the Federal Government: $627,432.28.

Comments

Comments may be submitted as indicated in the ADDRESSES caption above. Comments are solicited to (a) evaluate whether the proposed data collection is necessary for the proper performance of the agency, including whether the information shall have practical utility; (b) evaluate the accuracy of the agency's estimate of the burden of the proposed collection of information, including the validity of the methodology and assumptions used; (c) enhance the quality, utility, and clarity of the information to be collected; and (d) minimize the burden of the collection of information on those who are to respond, including through the use of appropriate automated, electronic, mechanical, or other technological collection techniques or other forms of information technology, e.g., permitting electronic submission of responses.

Dated: July 19, 2017.
Tammi Hines,
Acting Records Management Program Chief, Mission Support, Federal Emergency Management Agency, Department of Homeland Security.

[FR Doc. 2017-15577 Filed 7-24-17; 8:45 am]

BILLING CODE 911-46-P